DEPARTMENT OF LABOR

Bureau of Labor Statistics

Business Research Advisory Council; Notice of Meetings and Agenda

The regular Fall meetings of the Business Research Advisory Council and its committees will be held October 18 and 19, 2006. All of the meetings will be held in the Conference Center of the Postal Square Building, 2 Massachusetts Avenue, NE., Washington, DC.

Wednesday—October 18 (Conference Rooms 7 & 8)

10-11:30 a.m.—Committee on Compensation and Working Conditions

1. Key findings from the most recent benefits release.

2. Key findings and recent improvements in NCS Occupational Pay Relatives.

3. Recent changes in locality wage bulletin tables.

4. Developments in NCS/OES integration.

5. Discussion of agenda items for the Spring 2007 meeting.

1-2:30 p.m.—Committee on Prices Indexes

1. OPLC research on alternative medical care price indexes based on disease treatments.

2. CPI plans to publish index levels to 3-decimal places beginning with the January 2007 index.

3. Impact of house and energy price changes on CPI indexes for rent and owner's equivalent rent.

4. Discussion of agenda items for the Spring 2007 meeting.

3-4:30 p.m.—Committee on Employment and Unemployment Statistics

1. Current Employment Statistics (CES) sub-national data—research into data quality and tentative plans for improvement.

2. BLS employment projections for 2016—discussion of proposed macroeconomic assumptions.

3. BLS-Census business list comparison research—preliminary results.

4. Discussion of agenda items for the Spring 2007 meeting.

Thursday—October 19 (Conference rooms 1 & 2)

8:30-10 a.m.—Committee on Productivity and Foreign Labor Statistics

1. Update on manufacturing compensation costs in China and India.

2. Cross-Country Comparisons of Consumer Price Indexes.

3. Update on International Technical Cooperation.

4. Are Those Who Bring Work Home Really Working Longer Hours?

5. Discussion of agenda items for the Spring 2007 meeting.

10:30 a.m.-12 p.m.—Council Meeting

1. Council chairperson's remarks.

2. Acting Commissioner's remarks.

1:30-3 p.m.—Committee on Occupational Safety and Health Statistics

1. Developments on injury and illness undercount issue.

2. Update on producing new occupational safety and health rate data.

3. Coding of contract workers in injury, illness, and fatality data.

4. Census of Fatal Occupational Injuries 2005 preliminary data.

5. Survey of Occupational Injuries and Illnesses 2005 summary data.

6. Discussion of two recent articles on occupational safety and health issues.

7. Update on survey of workplace violence prevention.

8. Discussion of agenda items for the Spring 2007 meeting.

The meetings are open to the public. Persons wishing to attend these meetings as observers should contact Tracy A. Jack, Liaison, Business Research Advisory Council, at 202-691-5869.

David J. Lacey,
Associate Commissioner for Administration.

[FR Doc. E6-16194 Filed 9-29-06; 8:45 am]

BILLING CODE 4510-24-P